DEPARTMENT OF ENERGY

Blue Ribbon Commission on America's Nuclear Future

AGENCY: Office of Nuclear Energy, Department of Energy.

ACTION: Notice of open meeting.

SUMMARY: This notice announces an open meeting of the Blue Ribbon Commission on America's Nuclear Future (the Commission). The Commission was organized pursuant to the Federal Advisory Committee Act (Pub. L. 92-463, 86 Stat. 770), and requires that public notice of this meeting be announced in the Federal Register. This notice is provided in accordance with the Act.

DATES: Friday, December 2, 2011, 9 a.m.-4 p.m.

ADDRESSES: JW Marriott Washington, DC, 1331 Pennsylvania Avenue NW., Washington, DC 20004. Telephone: (202) 393-2000.

FOR FURTHER INFORMATION CONTACT: Timothy A. Frazier, Designated Federal Officer, U.S. Department of Energy, 1000 Independence Avenue SW., Washington, DC 20585; telephone (202) 586-4243; facsimile (202) 586-0544; or email: CommissionDFO@nuclear.energy.gov. Additional information will be available at: http://www.brc.gov.

SUPPLEMENTARY INFORMATION: Background: The President directed that the Commission be established to conduct a comprehensive review of policies for managing the back end of the nuclear fuel cycle. The Commission will provide advice and make recommendations on issues including alternatives for the storage, processing, and disposal of civilian and defense spent nuclear fuel and nuclear waste. The Commission submitted its draft report and draft recommendations to the Secretary of Energy on July 29, 2011. The report is due in January 2012.

This is the eighth open full Commission meeting. Previous meetings were held in March, May, July, September, and November 2010, and February and May 2011. Webcasts of the previous meetings along with meeting transcripts and presentation are available at: http://www.brc.gov.

Purpose of the Meeting: There are two purposes for this meeting. The first is to allow the Co-chairs of the three Subcommittees—Reactor and Fuel Cycle Technology, Transportation and Disposal, and Disposal—to review with the Commission proposed revisions to draft subcommittee recommendations formulated as a result of public comment. The full Commission will discuss the proposed revisions. The second purpose is for the Commissioners to be briefed by the newly-formed ad hoc subcommittee that has been investigating the issue of co-mingling of defense and commercial wastes.

Tentative Agenda: The meeting is expected to begin at 9 a.m. on Friday, December 2, 2011. The agenda will include presentations by the three subcommittees of the Commission. The subcommittee presentations are expected to begin at 9 a.m. and end at noon. After a break for lunch, the meeting will resume at 1 p.m. with the presentation from the Commission staff and discussion among the Commissioners. Public statements will begin at approximately 3 p.m. and conclude at approximately 4 p.m.

Public Participation: Individuals and representatives of organizations who would like to offer comments and suggestions may do so at the end of the public session on Friday, December 2, 2011. Approximately one hour will be reserved for public comments from 3 p.m. to 4 p.m. Time allotted per speaker will depend on the number who wish to speak, but will not exceed five minutes. The Designated Federal Officer is empowered to conduct the meeting in a fashion that will facilitate the orderly conduct of business. Those wishing to speak should register to do so beginning at 8:30 a.m. on December 2, 2011, at the JW Marriott Washington DC. Registration to speak will close at 1 p.m., December 2, 2011.

Those not able to attend the meeting or have insufficient time to address the subcommittee are invited to send a written statement to Timothy A. Frazier, U.S. Department of Energy, 1000 Independence Avenue SW., Washington DC 20585, or email: CommissionDFO@nuclear.energy.gov, or post comments on the Commission Web site at: http://www.brc.gov.

Additionally, the meeting will be available via live video webcast. The link will be available at: http://www.brc.gov.

Minutes: The minutes of the meeting will be available at: http://www.brc.gov or by contacting Mr. Frazier. He may be reached at the postal address or email address above.

Issued in Washington, DC on November 10, 2011.
Latanya Butler,
Acting Deputy Committee Management Officer.

[FR Doc. 2011-29712 Filed 11-16-11; 8:45 am]

BILLING CODE 6450-01-P